DEPARTMENT OF ENERGY

Federal Energy Regulatory Commission

Combined Notice of Filings #1

Take notice that the Commission received the following electric rate filings:

Docket Numbers: ER10-1325-008.

Applicants: CinCap V, LLC.

Description: Updated Market Power Analysis for the Southeast Region of CinCap V, LLC.

Filed Date: 6/30/17.

Accession Number: 20170630-5384.

Comments Due: 5 p.m. ET 8/29/17.

Docket Numbers: ER10-1437-006.

Applicants: Tampa Electric Company.

Description: Triennial Market Power Update for the Southeast Region of Tampa Electric Company.

Filed Date: 6/30/17.

Accession Number: 20170630-5412.

Comments Due: 5 p.m. ET 8/29/17.

Docket Numbers: ER10-2140-017.

Applicants: Grand Ridge Energy IV LLC.

Description: Triennial Report for the Northeast Region of Grand Ridge Energy IV LLC.

Filed Date: 6/30/17.

Accession Number: 20170630-5407.

Comments Due: 5 p.m. ET 8/29/17.

Docket Numbers: ER10-2414-006.

Applicants: Old Trail Wind Farm, LLC.

Description: Updated Market Power Analysis for the Northeast Region and Notice of Change in Status of Old Trail Wind Farm, LLC.

Filed Date: 6/30/17.

Accession Number: 20170630-5404.

Comments Due: 5 p.m. ET 8/29/17.

Docket Numbers: ER10-2432-013; ER10-1959-007; ER10-2435-013; ER10-2440-011; ER10-2444-013; ER10-2446-011; ER10-2449-011; ER10-3286-012; ER10-3299-011; ER10-71-005; ER11-3620-011; ER12-1431-009; ER12-1432-009; ER12-1434-009; ER12-1435-009; ER12-2510-008; ER12-2512-008; ER12-2513-008; ER13-2102-007; ER13-2308-006; ER14-1439-007; ER15-1019-006; ER15-2013-006; ER15-2014-004; ER15-2018-004; ER15-2022-004; ER15-2026-004.

Applicants: Bayonne Plant Holding, L.L.C., Brandon Shores LLC, Brunner Island, LLC, Camden Plant Holding, L.L.C., Dartmouth Power Associates Limited Partnership, Elmwood Park Power, LLC, H.A. Wagner LLC, Lower Mount Bethel Energy, LLC, Martins Creek, LLC, Millennium Power Partners, LP, Montour, LLC, New Athens Generating Company, LLC, Newark Bay Cogeneration Partnership, L.P, Pedricktown Cogeneration Company LP, Raven Power Marketing LLC, Sapphire Power Marketing LLC, Susquehanna Nuclear, LLC, Talen Energy Marketing, LLC, York Generation Company LLC, Lyonsdale Biomass, LLC, ReEnergy Ashland LLC, ReEnergy Black River LLC, ReEnergy Fort Fairfield LLC, ReEnergy Livermore Falls LLC, ReEnergy Stratton LLC, TrailStone Power, LLC, Fowler Ridge IV Wind Farm LLC.

Description: Updated Market Power Analysis for the Riverstone Northeast MBR Sellers.

Filed Date: 6/30/17.

Accession Number: 20170630-5408.

Comments Due: 5 p.m. ET 8/29/17.

Docket Numbers: ER10-2961-011; ER10-2950-010; ER16-2462-005.

Applicants: Oregon Clean Energy, LLC, Spruance Genco, LLC, Edgecombe Genco, LLC.

Description: Triennial MBR Compliance Filing of Edgecombe Genco, LLC, et al.

Filed Date: 6/30/17.

Accession Number: 20170630-5359.

Comments Due: 5 p.m. ET 8/29/17.

Docket Numbers: ER10-3246-008; ER10-2475-013; ER10-2474-013; ER13-1266-008.

Applicants: PacifiCorp, Nevada Power Company, Sierra Pacific Power Company, CalEnergy, LLC.

Description: Supplement to June 30, 2016 Triennial Market Power Analysis for the Northwest Region of the BHE Northwest Companies.

Filed Date: 6/30/17.

Accession Number: 20170630-5364.

Comments Due: 5 p.m. ET 7/21/17.

Docket Numbers: ER12-1563-003; ER12-1562-003; ER11-3642-016.

Applicants: Cayuga Operating Company, LLC, Somerset Operating Company, LLC, Tanner Street Generation, LLC.

Description: Updated Market Power Analysis for the Northeast Region of Cayuga Operating Company, LLC, et. al.

Filed Date: 6/30/17.

Accession Number: 20170630-5379.

Comments Due: 5 p.m. ET 8/29/17.

Docket Numbers: ER12-1923-003; ER10-2334-004; ER11-2897-002; ER11-3406-004; ER11-3407-004; ER12-1865-005; ER12-1924-003; ER12-1925-003.

Applicants: Big Savage, LLC, Big Sky Wind, LLC, EverPower Commercial Services LLC, Highland North LLC, Howard Wind LLC, Krayn Wind LLC, Mustang Hills, LLC, Patton Wind Farm, LLC.

Description: Triennial Market Power Update for the Northeast Region of the EverPower Companies.

Filed Date: 6/30/17.

Accession Number: 20170630-5417.

Comments Due: 5 p.m. ET 8/29/17.

Docket Numbers: ER13-1266-013; ER10-2611-019; ER11-2044-021; ER11-3876-021; ER15-2211-010.

Applicants: CalEnergy, LLC, Cordova Energy Company LLC, MidAmerican Energy Company, MidAmerican Energy Services, LLC, Saranac Power Partners, L.P.

Description: Northeast Triennial Market Power Analysis of CalEnergy, LLC, et al.

Filed Date: 6/30/17.

Accession Number: 20170630-5369.

Comments Due: 5 p.m. ET 8/29/17.

Docket Numbers: ER13-1485-008; ER10-3230-008; ER10-3237-008; ER10-3239-008; ER10-3240-008; ER10-3253-008; ER14-1777-007; ER15-2722-004.

Applicants: Wheelabrator Baltimore, L.P., Wheelabrator Bridgeport, L.P., Wheelabrator Falls Inc., Wheelabrator Frackville Energy Company Inc., Wheelabrator North Andover Inc., Wheelabrator Portsmouth Inc., Wheelabrator Saugus Inc., Wheelabrator Westchester, L.P.

Description: Updated Market Power Analysis for the Northeast Region of the WTI MBR Sellers.

Filed Date: 6/30/17.

Accession Number: 20170630-5382.

Comments Due: 5 p.m. ET 8/29/17.

Docket Numbers: ER15-1456-004; ER11-4634-004; ER15-1457-004; ER17-436-002; ER17-437-004.

Applicants: Beaver Falls, L.L.C., Hazleton Generation LLC, Marcus Hook Energy, L.P., Marcus Hook 50, L.P., Syracuse, L.L.C.

Description: Triennial Market Power Update for the Northeast Region of Beaver Falls, L.L.C., et al.

Filed Date: 6/30/17.

Accession Number: 20170630-5383.

Comments Due: 5 p.m. ET 8/29/17.

Docket Numbers: ER16-1720-003.

Applicants: Invenergy Energy Management LLC.

Description: Triennial Report for the Northeast Region of Invenergy Energy Management LLC.

Filed Date: 6/30/17.

Accession Number: 20170630-5403.

Comments Due: 5 p.m. ET 8/29/17.

Docket Numbers: ER17-1098-001.

Applicants: Southwest Power Pool, Inc.

Description: Tariff Amendment: Deficiency Response in ER17-1098—Resource Adequacy Requirement to be effective 6/1/2017.

Filed Date: 6/30/17.

Accession Number: 20170630-5347.

Comments Due: 5 p.m. ET 7/21/17.

Docket Numbers: ER17-2026-000.

Applicants: Cube Yadkin Generation LLC.

Description: Market-Based Triennial Review Filing: Southeast Triennial & Tariff Revisions to be effective 7/1/2017.

Filed Date: 6/30/17.

Accession Number: 20170630-5315.

Comments Due: 5 p.m. ET 8/29/17.

Docket Numbers: ER17-2027-000.

Applicants: Southwest Power Pool, Inc.

Description: § 205(d) Rate Filing: Integrated Transmission Planning Process Tariff Revisions to be effective 10/1/2017.

Filed Date: 6/30/17.

Accession Number: 20170630-5332.

Comments Due: 5 p.m. ET 7/21/17.

Docket Numbers: ER17-2028-000.

Applicants: PE Berkeley, Inc.

Description: Baseline eTariff Filing: PE Berkeley, Inc. FERC Electric Tariff, Original Baseline to be effective 7/27/2017.

Filed Date: 6/30/17.

Accession Number: 20170630-5348.

Comments Due: 5 p.m. ET 7/21/17.

Docket Numbers: ER17-2029-000.

Applicants: Entergy Arkansas, Inc.

Description: § 205(d) Rate Filing: EAI-ESI Reimbursement Agreement to be effective 8/1/2017.

Filed Date: 6/30/17.

Accession Number: 20170630-5341.

Comments Due: 5 p.m. ET 7/21/17.

Docket Numbers: ER17-2030-000.

Applicants: Entergy Louisiana, LLC

Description: § 205(d) Rate Filing: ELL-ESI Reimbursement Agreement to be effective 8/1/2017.

Filed Date: 6/30/17.

Accession Number: 20170630-5349.

Comments Due: 5 p.m. ET 7/21/17.

Docket Numbers: ER17-2031-000.

Applicants: Entergy Mississippi, Inc.

Description: § 205(d) Rate Filing: EMI-ESI Reimbursement Agreement to be effective 8/1/2017.

Filed Date: 6/30/17.

Accession Number: 20170630-5343.

Comments Due: 5 p.m. ET 7/21/17.

Docket Numbers: ER17-2032-000.

Applicants: Southwest Power Pool, Inc.

Description: § 205(d) Rate Filing: 2198R22 Kansas Power Pool NITSA NOA to be effective 6/1/2017.

Filed Date: 6/30/17.

Accession Number: 20170630-5344.

Comments Due: 5 p.m. ET 7/21/17.

Docket Numbers: ER17-2033-000.

Applicants: Entergy New Orleans, Inc.

Description: § 205(d) Rate Filing: ENO-ESI Reimbursement Agreement to be effective 8/1/2017.

Filed Date: 6/30/17.

Accession Number: 20170630-5345.

Comments Due: 5 p.m. ET 7/21/17.

Docket Numbers: ER17-2034-000.

Applicants: Entergy Texas, Inc.

Description: § 205(d) Rate Filing: ETI-ESI Reimbursement Agreement to be effective 8/1/2017.

Filed Date: 6/30/17.

Accession Number: 20170630-5346.

Comments Due: 5 p.m. ET 7/21/17.

Docket Numbers: ER17-2035-000.

Applicants: Arizona Public Service Company.

Description: § 205(d) Rate Filing: Arizona Public Service Company Submits Revised Market-Based Rate Tariff to be effective 8/30/2017.

Filed Date: 6/30/17.

Accession Number: 20170630-5350.

Comments Due: 5 p.m. ET 7/21/17.

Docket Numbers: ER17-2036-000.

Applicants: Florida Power & Light Company.

Description: § 205(d) Rate Filing: FPL and FPUC Rate Schedule FERC No. 401 to be effective 8/30/2017.

Filed Date: 6/30/17.

Accession Number: 20170630-5351.

Comments Due: 5 p.m. ET 7/21/17.

Docket Numbers: ER17-2037-000.

Applicants: Chubu TT Energy Management Inc.

Description: § 205(d) Rate Filing: Chubu TT MBR Tariff Update 2017 Triennial to be effective 9/1/2017.

Filed Date: 6/30/17.

Accession Number: 20170630-5353.

Comments Due: 5 p.m. ET 7/21/17.

Docket Numbers: ER17-2038-000.

Applicants: Southwest Power Pool, Inc.

Description: § 205(d) Rate Filing: 2198R23 Kansas Power Pool NITSA NOA to be effective 9/1/2017.

Filed Date: 6/30/17.

Accession Number: 20170630-5355.

Comments Due: 5 p.m. ET 7/21/17.

Docket Numbers: ER17-2039-000.

Applicants: New England Power Pool Participants Committee.

Description: § 205(d) Rate Filing: July 2017 Membership Filing to be effective 6/1/2017.

Filed Date: 7/3/17.

Accession Number: 20170703-5000.

Comments Due: 5 p.m. ET 7/24/17.

Docket Numbers: ER17-2040-000.

Applicants: Vermont Transco, LLC.

Description: Annual Informational Filing with updated Exhibit A for the 1991 Transmission Agreement of Vermont Transco, LLC.

Filed Date: 6/30/17.

Accession Number: 20170630-5356.

Comments Due: 5 p.m. ET 7/21/17.

Docket Numbers: ER17-2041-000.

Applicants: Southwest Power Pool, Inc.

Description: § 205(d) Rate Filing: 3334 Associated Electric Cooperative NITSA and NOA to be effective 6/1/2017.

Filed Date: 7/3/17.

Accession Number: 20170703-5085.

Comments Due: 5 p.m. ET 7/24/17.

Docket Numbers: ER17-2042-000.

Applicants: Southwest Power Pool, Inc.

Description: § 205(d) Rate Filing: 3340 Otter Tail Power Company NITSA and NOA to be effective 6/1/2017.

Filed Date: 7/3/17.

Accession Number: 20170703-5152.

Comments Due: 5 p.m. ET 7/24/17.

Take notice that the Commission received the following electric securities filings:

Docket Numbers: ES17-39-000.

Applicants: MidAmerican Energy Company.

Description: Application under Section 204 of the Federal Power Act for Long-Term Financing of MidAmerican Energy Company.

Filed Date: 6/30/17.

Accession Number: 20170630-5415.

Comments Due: 5 p.m. ET 7/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2017.
Kimberly D. Bose,
Secretary.

[FR Doc. 2017-14381 Filed 7-7-17; 8:45 am]

BILLING CODE 6717-01-P